INTERNATIONAL TRADE COMMISSION

[Investigations Nos. 701-TA-465 and 731-TA-1161 (Final)]

Certain Steel Grating From China

Determination

On the basis of the record ¹ developed in the subject investigations, the United States International Trade Commission (Commission) determines, pursuant to sections 705(b) and 735(B) of the Tariff Act of 1930 (19 U.S.C. 1671d(b)) and (19 U.S.C. 1673d(b)) (the Act), that an industry in the United States is materially injured by reason of imports of certain steel grating from China, provided for in subheading 7308.90.70 of the Harmonized Tariff Schedule of the United States, that the U.S. Department of Commerce has determined are subsidized and sold in the United States at less than fair value.²

¹ The record is defined in sec. 207.2(f) of the Commission's Rules of Practice and Procedure (19 CFR 207.2(f)).

² All six Commissioners voted in the affirmative.

Background

These investigations were instituted in response to a petition filed on May 29, 2009, by Alabama Metal Industries, Birmingham, AL and Fisher & Ludlow, Wexford, PA. The final phase of the investigations was scheduled by the Commission following notification of preliminary determinations by Commerce that imports of certain steel gratings from China were being subsidized within the meaning of section 703(b) of the Act (19 U.S.C. 1671b(b)) and dumped within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on February 25, 2010 (75 FR 8746). The hearing was held in Washington, DC, on May 25, 2010, and all persons who requested the opportunity were permitted to appear in person or by counsel.

The Commission transmitted its determinations in these investigations to the Secretary of Commerce on July 13, 2010. The views of the Commission are contained in USITC Publication 4168 (July 2010), entitled Certain Steel Grating from China: Investigation Nos. 701-TA-465 and 731-TA-1161 (Final).

By order of the Commission.
Issued: July 14, 2010.
Marilyn R. Abbott,
Secretary to the Commission.

[FR Doc. 2010-17498 Filed 7-16-10; 8:45 am]

BILLING CODE 7020-02-P